DEPARTMENT OF HEALTH AND HUMAN SERVICES

Administration on Aging

Public Information Collection Requirement Submitted to the Office of Management and Budget for Clearance

AGENCY: Administration on Aging, HHS.

The Administration on Aging (AoA), Department of Health and Human Services, In compliance with the Paperwork Reduction Act (Pub. L. 96-511), is submitting to the Office of Management and Budget for clearance and approval an information collection instrument, entitled Program Evaluation Data Collection Protocols and Tools for the Alzheimer's Disease Demonstration Grants to States Program.

Type of Request: New. The Health Resources and Services Administration previously administered this program.

Use: Consistent with section 398 of the Public Health Service Act, as amended, the AoA requires grantees to collect and report basic client data as part of an overall program evaluation effort. The data collected is used, in aggregate, by AoA to analyze the success and accomplishments of the program, better target resources, and make informed programmatic and policy decisions. Analysis of this data also serves as the basis for the statutorily required report to Congress.

Frequency: Quarterly to Annual, depending on data type, for duration of grant.

Respondents: 25 Alzheimer's Disease Demonstration Grants to States Program grantees.

Estimated number of respondents: The 25 program grantees will obtain data from approximately 125 local service agencies.

Estimated burden hours: 1,713 per year (68.5/ state/ year).

Additional Information: The data collection protocol consists of a client intake (conducted only once for each person served), quarterly service utilization reports, and an annual agency profile report. Most data elements in this collection are basic and essential elements of existing functional and service assessments that will be conducted by grantees as part of normal service provision. Only states that have voluntarily applied for and been awarded a grant under the Alzheimer's Demonstration Program are required to provide these data. A copy of the data collection instrument may be obtained from: Melanie K. Starns, Administration on Aging, Office of Program Development, Cohen Building, Room 4270, 330 Independence Avenue, SW, Washington, DC 20201.

OMB Comment: A comment is best assured of having its full effect if OMB receives it as soon as possible after its publication. Written comments and recommendations for the proposed information collection should be sent to the following address within 30 days of the publication of this notice: Office of Information and Regulatory Affairs, Attention: Allison Herron Eydt, OMB Desk Officer, Room 10325, Office of Management and Budget, Washington, DC 20503.

Dated: November 27, 2001.
Josefina G. Carbonell,
Assistant Secretary for Aging.

[FR Doc. 01-31205 Filed 12-18-01; 8:45 am]

BILLING CODE 4151-01-P